INTERNATIONAL TRADE COMMISSION

[Investigation No. 337-TA-1140]

Certain Multi-Stage Fuel Vapor Canister Systems and Activated Carbon Components Thereof: Notice of Commission Determination Not To Review an Initial Determination Granting a Motion To Amend the Complaint and Notice of Investigation

AGENCY: U.S. International Trade Commission.

ACTION: Notice.

SUMMARY: Notice is hereby given that the U.S. International Trade Commission has determined not to review an initial determination (“ID”) (Order No. 5) issued by the presiding administrative law judge (“ALJ”), granting a motion to amend the complaint and notice of investigation.

FOR FURTHER INFORMATION CONTACT: Robert Needham, Office of the General Counsel, U.S. International Trade Commission, 500 E Street SW, Washington, DC 20436, telephone (202) 708-5468. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its Internet server (https://www.usitc.gov). The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on December 14, 2018, based on a complaint filed by Ingevity Corp. and Ingevity South Carolina, LLC, both of North Charleston, South Carolina (together, “Ingevity”). 83 FR 64356 (Dec. 14, 2018). The complaint, as supplemented, alleges violations of section 337 of the Tariff Act of 1930, as amended, 19 U.S.C. 1337, in the importation into the United States, the sale for importation, and the sale within the United States after importation of certain multi-stage fuel vapor canister systems and activated carbon components thereof by reason of infringement of certain claims of U.S. Patent No. RE38,844. Id. The Commission's notice of investigation named as respondents MAHLE Filter Systems North America, Inc. of Murfreesboro, Tennessee; MAHLE Filter Systems Japan Corp. of Saitama, Japan; MAHLE Sistemas de Filtracion de Mexico de C.V. of Monterrey, Mexico; MAHLE Filter Systems Canada, ULC of Tilbury, Canada; Kuraray Co., Ltd. of Tokyo, Japan; Kuraray America, Inc. of Houston, Texas; and Nagamine Manufacturing Co., Ltd. of Manno, Japan. Id. The Office of Unfair Import Investigations is not participating in this investigation. Id.

On February 19, 2019, Ingevity filed an unopposed motion to amend the complaint and notice of investigation to remove respondents Kuraray Co., Ltd. and Kuraray America, Inc. (together, “Kuraray”), and to add as a respondent Calgon Carbon Corporation (“Calgon Carbon”). Ingevity argued that the amendment is necessary because Kuraray transferred its North American carbon business to Calgon Carbon. No party filed a response to the motion.

On February 26, 2019, the ALJ, pursuant to Commission Rule 210.14(b) (19 CFR 210.14(b)), issued the subject ID, granting the motion to amend the complaint and notice of investigation. No petitions for review of the ID were received.

The Commission has determined not to review the subject ID.

The authority for the Commission's determination is contained in section 337 of the Tariff Act of 1930, as amended (19 U.S.C. 1337), and in part 210 of the Commission's Rules of Practice and Procedure (19 CFR part 210).

By order of the Commission.
Issued: March 21, 2019.
Katherine Hiner,
Acting Secretary to the Commission.

[FR Doc. 2019-05830 Filed 3-26-19; 8:45 am]

BILLING CODE 7020-02-P